DEPARTMENT OF HEALTH AND HUMAN SERVICES

Centers for Medicare & Medicaid Services

42 CFR Part 510

[CMS-5529-F]

RIN 0938-AU01

Medicare Program: Comprehensive Care for Joint Replacement Model Three-Year Extension and Changes to Episode Definition and Pricing; Medicare and Medicaid Programs; Policies and Regulatory Revisions in Response to the COVID-19 Public Health Emergency

Correction

In rule document 2021-09097, appearing on pages 23496 through 23576 in the issue of Monday, May 3, 2021 make the following corrections.

§ 510.400 [Amended]

1. On page 23574, in the second column, in paragraph (b)(4)(ii)(A), on the second line, “•80%” should read “≥80%”.

2. On the same page, in the same column, in the same paragraph, on the third line, “•300” should read “≥300”.

[FR Doc. C1-2021-09097 Filed 7-8-21; 8:45 am]

BILLING CODE 0099-10-D